DEPARTMENT OF HEALTH AND HUMAN SERVICES

Request for Nominations to the Advisory Council on Alzheimer's Research, Care, and Services

AGENCY: Office of the Assistant Secretary for Planning and Evaluation, Department of Health and Human Services.

ACTION: Notice.

SUMMARY: The Secretary of HHS established the Advisory Council to provide advice and consultation to the Secretary on how to prevent or reduce the burden of Alzheimer's disease and related dementias on people with the disease and their caregivers. The Secretary signed the charter establishing the Advisory Council on May 23, 2011. HHS is soliciting nominations for seven (7) new non-Federal members of the Advisory Council to replace the seven members whose terms will end September 30th, 2017. Nominations should include the nominee's contact information (current mailing address, email address, and telephone number) and current curriculum vitae or resume.

DATES: Submit nominations by email or USPS mail before COB on June 16, 2017.

ADDRESSES: Nominations should be sent by email to Rohini Khillan at rohini.khillan@hhs.gov; or sent by USPS mail to: Rohini Khillan, Office of the Assistant Secretary for Planning and Evaluation, Room 424E, Humphrey Building, 200 Independence Avenue SW., Washington, DC 20201.

FOR FURTHER INFORMATION CONTACT: Rohini Khillan (202) 690-5932, rohini.khillan@hhs.gov.

SUPPLEMENTARY INFORMATION: The Advisory Council on Alzheimer's Research, Care, and Services meets quarterly to discuss programs that impact people with Alzheimer's disease and related dementias and their caregivers. The Advisory Council makes recommendations to Congress and the Secretary of Health and Human Services about ways to reduce the financial impact of Alzheimer's disease and related dementias and to improve the health outcomes of people with these conditions. The Advisory Council also provides feedback on a National Plan for Alzheimer's disease. On an annual basis, the Advisory Council evaluates the implementation of the recommendations through an updated National Plan. The National Alzheimer's Project Act, Public Law 111-375 (42 U.S.C. 11225), requires that the Secretary of Health and Human Services (HHS) establish the Advisory Council on Alzheimer's Research, Care, and Services. The Advisory Council is governed by provisions of Public Law 92-463 (5 U.S.C. Appendix 2), which sets forth standards for the formation and use of advisory committees.

The Advisory Council consists of 22 members. Ten members will be designees from Federal agencies including the Centers for Disease Control and Prevention, Administration for Community Living, Centers for Medicare and Medicaid Services, Indian Health Service, National Institutes of Health, National Science Foundation, Department of Veterans Affairs, Food and Drug Administration, Agency for Healthcare Research and Quality, and the Health Resources and Services Administration.

The Advisory Council also consists of 12 non-federal members selected by the Secretary who fall into 6 categories: Dementia caregivers (2), health care providers (2), representatives of State health departments (2), researchers with dementia-related expertise in basic, translational, clinical, or drug development science (2), voluntary health association representatives (2), and dementia patient advocates, including an advocate who is currently living with the disease (2). The member living with the disease serves a 2-year term.

At this time, the Secretary shall appoint one member for each category, to replace the seven members whose terms will end on September 30th, 2017, for a total of seven (7) new members to the Council. After receiving nominations, the Secretary, with input from his staff, will make the final decision, and the new members will be announced soon after. Members shall be invited to serve 4-year terms, except that any member appointed to fill a vacancy for an unexpired term shall be appointed for the remainder of such term. The member living with the disease will serve a 2-year term. A member may serve after the expiration of the member's term until a successor has taken office. Members will serve as Special Government Employees.

Dated: May 3, 2017.
John R. Graham,
Acting Assistant Secretary for Planning and Evaluation.

[FR Doc. 2017-09545 Filed 5-10-17; 8:45 am]

BILLING CODE 4150-05-P